GENERAL SERVICES ADMINISTRATION

[Notice—CECANF-2015-07; Docket No. 2015-0004; Sequence No. 8]

Commission To Eliminate Child Abuse and Neglect Fatalities; Announcement of Meeting

AGENCY: Commission to Eliminate Child Abuse and Neglect Fatalities, GSA.

ACTION: Meeting Notice.

SUMMARY: The Commission to Eliminate Child Abuse and Neglect Fatalities (CECANF), a Federal Advisory Committee established by the Protect Our Kids Act of 2012, will hold conference calls open to the public on the following dates: Wednesday, August 26, 2015; Thursday, September 24, 2015; Friday, October 30, 2015; Thursday, November 12, 2015; and December 3, 2015.

DATES: The meetings will be held on the noted dates from 1:00 p.m. to 3:00 p.m., Eastern Daylight Time (EDT).

ADDRESSES: CECANF will convene these meetings via conference call.

Submit comments identified by “Notice—CECANF-2015-08,” by either of the following methods:

• Regulations.gov: http://www.regulations.gov.

Submit comments via the Federal eRulemaking portal by searching for “Notice—CECANF-2015-08.” Select the link “Comment Now” that corresponds with “Notice—CECANF-2015-08.” Follow the instructions provided on the screen. Please include your name, organization name (if any), and “Notice—CECANF-2015-08” on your attached document.

• Mail: U.S. General Services Administration, 1800 F Street NW., Room 7003D, Washington DC 20405, Attention: Tom Hodnett (CD) for CECANF.

Instructions: Please submit comments only and cite “Notice—CECANF-2015-08, Announcement of Meeting” in all correspondence related to this notice. Comments received generally will be posted without change to http://www.regulations.gov, including any personal and/or business confidential information provided. To confirm receipt of your comment(s), please check http://www.regulations.gov, approximately two to three days after submission to verify posting (except allow 30 days for posting of comments submitted by mail).

FOR FURTHER INFORMATION CONTACT: Visit the CECANF Web site at https://eliminatechildabusefatalities.sites.usa.gov/ or contact Patricia Brincefield, Communications Director, at 202-818-9596, General Services Administration, 1800 F Street NW., Room 7003D, Washington DC 20405, Attention: Tom Hodnett (CD) for CECANF.

SUPPLEMENTARY INFORMATION: Background: CECANF was established to develop a national strategy and recommendations for reducing fatalities resulting from child abuse and neglect.

Agenda: Commission members will continue discussing the work plans of the Commission subcommittees, the information that they have obtained to date, and emerging recommendations.

Attendance at the Meetings: Individuals interested in participating by teleconference should dial 1-800-870-9004 and then enter *3676137#. Detailed meeting minutes will be posted within 90 days of the meeting. Members of the public will not have the opportunity to ask questions or otherwise participate in the meeting.

However, members of the public wishing to comment should follow the steps detailed under the heading Addresses in this publication or contact us via the CECANF Web site at https://eliminatechildabusefatalities.sites.usa.gov/contact-us/.

Dated: August 20, 2015.
Karen White,
Executive Assistant.

[FR Doc. 2015-21189 Filed 8-25-15; 8:45 am]

BILLING CODE 6820-34-P